DEPARTMENT OF COMMERCE

Foreign-Trade Zones Board

[Docket 18-2002]

Foreign-Trade Zone 46, Cincinnati, OH, Request for Manufacturing Authority (Automobile Transmissions)

An application has been submitted to the Foreign-Trade Zones Board (the Board) by the Greater Cincinnati Foreign Trade Zone, Inc., grantee of FTZ 46, requesting, on behalf of ZF Batavia, LLC, authority to manufacture automobile transmissions under zone procedures within Site 3 (1981 Front Wheel Drive, Batavia, Ohio) of FTZ 46 (Cincinnati Customs port of entry). The application was submitted pursuant to the provisions of the Foreign-Trade Zones Act, as amended (19 U.S.C. 81a-81u), and the regulations of the Board (15 CFR part 400). It was formally filed on March 20, 2002.

ZF Batavia currently operates 1.8 million square-feet of facilities at the above-described location (approximately 1200 employees) for the manufacture of automotive automatic transmissions, parts, components, and related products (imported under HTSUS headings 8708.40, 8413.60, 8481.20, 8708.93, and 8708.99, with duties ranging from duty-free to 2.5% ad valorem). The application indicates that foreign-sourced components comprise up to 60 percent of the finished product's value, and may include: transmission fluid; plastic and rubber articles; stainless steel wire; tubes, pipes or hollow profiles; tube or pipe fittings; screws, bolts, nuts, rivets, washers, and similar items; springs; retainers and clips; plugs and sealing rings; brackets and support plates; pumps; valves and similar articles; bearings; transmission shafts; gaskets; magnets; sensors; clutches and clutch parts; and various other motor vehicle parts (classifiable under HTS heading 8708.99). Duty rates on these categories of items range up to 9.9% ad valorem.

FTZ procedures would exempt ZF Batavia from Customs duty payments on the foreign components used in export activity. On its domestic sales, the company would be able to choose the duty rate that applies to finished automatic transmissions and assemblies (duty free to 2.5%) for foreign components, such as those noted above. The company would also be exempt from duty payments on foreign merchandise that becomes scrap/waste. The application indicates that the savings would help improve the facility's international competitiveness.

In accordance with the Board's regulations, a member of the FTZ Staff has been designated examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th St. NW., Washington, DC 20005; or

2. Submissions via the U.S. Postal Service: Foreign-Trade-Zones Board, U.S. Department of Commerce, FCB—Suite 4100W, 1401 Constitution Ave. NW., Washington, DC 20230.

The closing period for their receipt is June 3, 2002. Rebuttal comments in response to material submitted during the foregoing period may be submitted during the subsequent 15-day period to June 17, 2002. A copy of the application and accompanying exhibits will be available for public inspection at the Office of the Foreign-Trade Zones Board's Executive Secretary at address Number 1 listed above, and at the Cincinnati U.S. Export Assistance Center, 36 East Seventh Street, Suite 2650, Cincinnati, Ohio 45202.

Dated: March 22, 2002.
Dennis Puccinelli,
Executive Secretary.

[FR Doc. 02-7850 Filed 4-1-02; 8:45 am]

BILLING CODE 3510-DS-P